DEPARTMENT OF ENERGY

Federal Energy Regulatory Commission

Notice of Guidelines for Submission of CDs, DVDs, and Other Electronic Media

April 12, 2007.

Take notice that the Commission is issuing notice of guidelines for submission of CDs, DVDs and other electronic media. An increasing number of traditionally paper documents submitted to the Federal Energy Regulatory Commission (FERC) are now accompanied by one or more CDs, DVDs or other electronic media that contain all or part of the submission, or contain supplements to the submission. These guidelines address such submissions and require that, among other things, the CDs/DVDs contain the entire submission.

These guidelines apply to documents that cannot be submitted through any of the Commission's existing electronic gateways: The eFiling system, the eForms system, or the Electric Quarterly Reports (EQR) system. They thus are primarily intended for larger filings and those filings that contain Privileged, Critical Energy Infrastructure (CEII), or Non-Internet Public (NIP) information.

Persons following these guidelines will be granted an automatic waiver of the number of paper copies and may instead submit the requisite number of copies of a filing on CD/DVD and reduce the number of paper copies to an original and two copies in most cases. These guidelines do not change any FERC requirements concerning service of submissions on customers, parties, or other persons.

The guidelines will be posted at: http://www.ferc.gov/help/submission-guide.asp and updated when necessary to reflect revised procedures or changes in media.

Kimberly D. Bose,
Secretary.

[FR Doc. E7-7312 Filed 4-17-07; 8:45 am]

BILLING CODE 6717-01-P